POSTAL REGULATORY COMMISSION

[Docket No. C2024-13; Presiding Officer's Ruling No. 9]

Complaint

AGENCY: Postal Regulatory Commission.

ACTION: Notice.

SUMMARY: The Commission is providing notice of the hearing schedule in this matter.

DATES: Live Videoconference: May 15, 2025, at 10 a.m., eastern daylight time, virtual.

FOR FURTHER INFORMATION CONTACT: David A. Trissell, General Counsel, at 202-789-6820.

SUPPLEMENTARY INFORMATION:

I. Hearing Schedule

The schedule for the submission of briefs and evidence shall be as follows:

Prehearing Conference to Discuss Written Hearing—May 15, 2025, 10 a.m., Eastern time

Deadline for Designating Evidence For Parties' Initial Brief—May 19, 2025

Parties' Initial Brief with Supporting Evidence—May 22, 2025

Deadline to Request Written Cross-Examination of Opposing Parties' Witnesses—May 26, 2025

Response to Written Cross-Examination, if necessary—June 2, 2025

Parties' Answering Brief with Supporting Evidence—June 12, 2025

Deadline to Request Written Cross-Examination of Witnesses Supporting Answering Brief—June 16, 2025

Response to Such Written Cross-Examination, if necessary—June 23, 2025

Settlement Conference—July 10, 2025, 10 a.m., Eastern time.

All submissions must be filed electronically on the Commission's docket by 4:30 p.m. Eastern time on the date due.

II. Ruling

1. The parties and counsel shall follow the hearing format and schedule established by this Presiding Officer's Ruling.

2. The Secretary shall arrange for publication of the hearing schedule in the Federal Register.

Erica A. Barker,
Secretary.

[FR Doc. 2025-03723 Filed 3-6-25; 8:45 am]

BILLING CODE 7710-FW-P